DEPARTMENT OF TRANSPORTATION

Federal Aviation Administration

14 CFR Part 39

[Docket No. FAA-2010-1279; Directorate Identifier 2009-NM-258-AD; Amendment 39-16568; AD 2010-02-05]

RIN 2120-AA64

Airworthiness Directives; Airbus Model A300, A300-600, A310, A318, A319, A320, A321, A330-300, A340-200, A340-300, A340-500, A340-600, and A380-800 Series Airplanes; and Model A330-201, A330-202, A330-203, A330-223, A330-243 Airplanes

AGENCY: Federal Aviation Administration (FAA), Department of Transportation (DOT).

ACTION: Final rule; request for comments.

SUMMARY: This document publishes in the Federal Register an amendment adopting airworthiness directive (AD) 2010-02-05 that was sent previously by individual notices to the known U.S. owners and operators of affected airplanes identified above. This AD requires modifying the flight deck door. This AD was prompted by a report indicating that certain equipment of the flight deck door is defective. We are issuing this AD to prevent failure of this equipment, which could jeopardize flight safety.

DATES: This AD becomes effective January 18, 2011 to all persons except those persons to whom it was made immediately effective by AD 2010-02-05, which contained the requirements of this amendment.

The Director of the Federal Register approved the incorporation by reference of certain publications listed in the AD as of January 18, 2011.

We must receive comments on this AD by February 24, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD for Model A300, A300-600, and A310 series airplanes, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

For service information identified in this AD for Model A318, A319, A320, and A321 series airplanes, contact Airbus, Airworthiness Office—EAS, 1 Rond Point Maurice Bellonte, 31707 Blagnac Cedex, France; telephone +33 5 61 93 36 96; fax +33 5 61 93 44 51; e-mail account.airworth-eas@airbus.com; Internet http://www.airbus.com.

For service information identified in this AD for Model A330-300, A340-200, A340-300, A340-500, A340-600 series airplanes, and Model A330-201, A330-202, A330-203, A330-223, A330-243 airplanes, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

For service information identified in this AD for Model A380-800 series airplanes, contact Airbus SAS—EANA (Airworthiness Office); 1 Rond Point Maurice Bellonte, 31707 Blagnac Cedex, France; telephone +33 562 110 253; Fax +33 562 110 307; e-mail account.airworth-A380@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION: On January 8, 2010, we issued AD 2010-02-05, which applies to certain Airbus Model A300, A300-600, A310, A318, A319, A320, A321, A330-300, A340-200, A340-300, A340-500, A340-600, and A380-800 series airplanes; and Model A330-201, A330-202, A330-203, A330-223, A330-243 airplanes.

Background

We have received a report indicating that certain equipment of the flight deck door is defective. This condition, if not corrected, could jeopardize flight safety.

Relevant Service Information

We reviewed the Airbus service bulletins identified in the following table.

Airbus Service Bulletins
Airbus Service Bulletin— | Dated—
A300-25-0486, including Appendix | September 21, 2009.
A300-25-6218, including Appendix | September 21, 2009.
A310-25-2206, including Appendix | September 21, 2009.
A320-25-1666, including Appendix | September 21, 2009.
A330-25-3424, including Appendix | September 21, 2009.
A340-25-4326, including Appendix | September 21, 2009.
A340-25-5169, including Appendix | September 18, 2009.
A380-25-8058, including Appendix | September 21, 2009.

The service bulletins describe procedures for modifying the flight deck door.

FAA's Determination and Requirements of this AD

Since the unsafe condition described is likely to exist or develop on other airplanes of the same type design, we issued AD 2010-02-05 to prevent failure of certain equipment of the flight deck door, which could jeopardize flight safety. The AD requires modifying the flight deck door.

We have determined that notice and opportunity for prior public comment on AD 2010-02-05 were contrary to the public interest, and good cause existed to make the AD effective immediately by individual notices issued on January 8, 2010, to the known U.S. owners and operators of affected Airbus Model A300, A300-600, A310, A318, A319, A320, A321, A330-300, A340-200, A340-300, A340-500, A340-600, and A380-800 series airplanes; and Model A330-201, A330-202, A330-203, A330-223, A330-243 airplanes. These conditions still exist, and the AD is hereby published in the Federal Register as an amendment to section 39.13 of the Federal Aviation Regulations (14 CFR 39.13) to make it effective to all persons.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-1279; Directorate Identifier 2009-NM-258-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2010-02-05 Airbus: Amendment 39-16568. Docket No. FAA-2010-1279; Directorate Identifier 2009-NM-258-AD.

Effective Date

(a) This AD becomes effective January 18, 2011, to all persons except those persons to whom it was made immediately effective by AD 2010-02-05, issued on January 8, 2010, which contained the requirements of this amendment.

Affected ADs

(b) None.

Applicability

(c) This AD applies to the Airbus airplanes, certificated in any category, identified in paragraphs (c)(1), (c)(2), (c)(3), (c)(4), and (c)(5) of this AD.

(1) Model A300 B2-1A, B2-1C, B4-2C, B2K-3C, B4-103, B2-203, B4-203, B4-601, B4-603, B4-620, B4-622, B4-605R, B4-622R, F4-605R, F4-622R, and C4-605R Variant F airplanes; and A310-203, -204, -221, -222, -304, -322, -324, and -325 airplanes; all manufacturer serial numbers on which Airbus modification 12558, 12640, or 12715 has been embodied in production, or on which Airbus Service Bulletin A310-25-2143, A300-25-6169, A310-25-2147, A300-25-0472, or A300-25-6173 has been embodied in service.

(2) Model A318-111, A318-112, A318-121, A318-122, A319-111, A319-112, A319-113, A319-114, A319-115, A319-131, A319-132, A319-133, A320-111, A320-211, A320-212, A320-214, A320-231, A320-232, A320-233, A321-111, A321-112, A321-131, A321-211, A321-212, A321-213, A321-231 and A32-232 airplanes; all manufacturer serial numbers on which Airbus modification 32088 has been embodied in production, or on which Airbus Service Bulletin A320-25-1287, A320-25-1305, or A320-25-1282 has been embodied in service; except those on which Airbus modification 150816 has been embodied in production.

(3) Model A330-201, A330-202, A330-203, A330-223, A330-243, A330-301, A330-302, A330-303, A330-321, A330-322, A330-323, A330-341, A330-342, and A330-343 airplanes; all manufacturer serial numbers on which Airbus modification 50014 has been embodied in production, or on which Airbus Service Bulletin A330-25-3161 or A330-25-3159 has been embodied in service; except those on which Airbus modification 200446 has been embodied in production.

(4) Model 340-211, A340-212, A340-213, A340-311, A340-312, A340-313, A340-541, and A340-642 airplanes; all manufacturer serial numbers on which Airbus modification 50014 has been embodied in production, or on which Airbus Service Bulletin A340-25-4181 or A340-25-4178 has been embodied in service; except those on which Airbus modification 200446 has been embodied in production.

(5) Model A380-841, A380-842, and A380-861 airplanes, all manufacturer serial numbers except those on which Airbus modification 69512 has been embodied in production.

Subject

(d) Air Transport Association (ATA) of America Code 25: Equipment/furnishings.

Unsafe Condition

(e) This AD was prompted by a report indicating that certain equipment on the flight deck door is defective. We are issuing this AD to prevent failure of this equipment, which could jeopardize flight safety.

Compliance

(f) Comply with this AD within the compliance times specified, unless already done.

Modification

(g) Within 3 months after the effective date of this AD, modify the cockpit door, in accordance with the applicable service bulletin identified in Table 1 of this AD.

Table 1—Service Bulletins
For model— | Use Airbus Service Bulletin— | Dated—
A300 series airplanes | A300-25-0486, including Appendix | September 21, 2009.
A300-600 series airplanes | A300-25-6218, including Appendix | September 21, 2009.
A310 series airplanes | A310-25-2206, including Appendix | September 21, 2009.
A318, A319, A320, and A321 series airplanes | A320-25-1666, including Appendix | September 21, 2009.
A330-200 and -300 series airplanes | A330-25-3424, including Appendix | September 21, 2009.
A340-200 and -300 series airplanes | A340-25-4326, including Appendix | September 21, 2009.
A340-500 and -600 series airplanes | A340-25-5169, including Appendix | September 18, 2009.
A380-800 series airplanes | A380-25-8058, including Appendix | September 21, 2009.

Alternative Methods of Compliance (AMOCs)

(h)(1) The Manager, International Branch, ANM-116, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically refer to this AD.

Material Incorporated by Reference

(i) You must use the service information contained in Table 2 of this AD, as applicable, to do the actions required by this AD, unless the AD specifies otherwise.

Table 2—Material Incorporated by Reference
Airbus Service Bulletin— | Dated—
A300-25-0486, including Appendix | September 21, 2009.
A300-25-6218, including Appendix | September 21, 2009.
A310-25-2206, including Appendix | September 21, 2009.
A320-25-1666, including Appendix | September 21, 2009.
A330-25-3424, including Appendix | September 21, 2009.
A340-25-4326, including Appendix | September 21, 2009.
A340-25-5169, including Appendix | September 18, 2009.
A380-25-8058, including Appendix | September 21, 2009.

(1) The Director of the Federal Register approved the incorporation by reference of the service information contained in Table 2 of this AD under 5 U.S.C. 552(a) and 1 CFR part 51.

(2) Use the contact information specified in paragraphs (i)(2)(i), (i)(2)(ii), (i)(2)(iii), and (i)(2)(iv), as applicable, for service information identified in this AD.

(i) For Model A300, A300-600, and A310 series airplanes, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(ii) For Model A318, A319, A320, and A321 series airplanes, contact Airbus, Airworthiness Office—EAS, 1 Rond Point Maurice Bellonte, 31707 Blagnac Cedex, France; telephone +33 5 61 93 36 96; fax +33 5 61 93 44 51; e-mail account.airworth-eas@airbus.com; Internet http://www.airbus.com.

(iii) For Model A330-300, A340-200, A340-300, A340-500, A340-600 series airplanes, and Model A330-201, A330-202, A330-203, A330-223, A330-243 airplanes, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(iv) For Model A380-800 series airplanes, contact Airbus SAS—EANA (Airworthiness Office); 1 Rond Point Maurice Bellonte, 31707 Blagnac Cedex, France; telephone +33 562 110 253; Fax +33 562 110 307; e-mail account.airworth-A380@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on December 14, 2010.
Michael Kaszycki,
Acting Manager, Transport Airplane Directorate, Aircraft Certification Service.

[FR Doc. 2010-33318 Filed 1-7-11; 8:45 am]

BILLING CODE 4910-13-P